DEPARTMENT OF COMMERCE

International Trade Administration

Initiation of Antidumping and Countervailing Duty Administrative Reviews

AGENCY: Enforcement and Compliance, International Trade Administration, Department of Commerce.

SUMMARY: The Department of Commerce (Commerce) has received requests to conduct administrative reviews of various antidumping duty (AD) and countervailing duty (CVD) orders and findings with April anniversary dates. In accordance with Commerce's regulations, we are initiating those administrative reviews.

DATES: Applicable June 8, 2020.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders and findings with April anniversary dates.

All deadlines for the submission of various types of information, certifications, or comments or actions by Commerce discussed below refer to the number of calendar days from the applicable starting time.

Notice of No Sales

If a producer or exporter named in this notice of initiation had no exports, sales, or entries during the period of review (POR), it must notify Commerce within 30 days of publication of this notice in the Federal Register. All submissions must be filed electronically at https://access.trade.gov in accordance with 19 CFR 351.303.¹ Such submissions are subject to verification, in accordance with section 782(i) of the Tariff Act of 1930, as amended (the Act). Further, in accordance with 19 CFR 351.303(f)(1)(i), a copy must be served on every party on Commerce's service list.

¹ See Antidumping and Countervailing Duty Proceedings: Electronic Filing Procedures; Administrative Protective Order Procedures, 76 FR 39263 (July 6, 2011).

Respondent Selection

In the event Commerce limits the number of respondents for individual examination for administrative reviews initiated pursuant to requests made for the orders identified below, Commerce intends to select respondents based on U.S. Customs and Border Protection (CBP) data for U.S. imports during the POR. We intend to place the CBP data on the record within five days of publication of the initiation notice and to make our decision regarding respondent selection within 30 days of publication of the initiation Federal Register notice. Comments regarding the CBP data and respondent selection should be submitted within seven days after the placement of the CBP data on the record of this review. Parties wishing to submit rebuttal comments should submit those comments within five days after the deadline for the initial comments.

In the event Commerce decides it is necessary to limit individual examination of respondents and conduct respondent selection under section 777A(c)(2) of the Act, the following guidelines regarding collapsing of companies for purposes of respondent selection will apply. In general, Commerce has found that determinations concerning whether particular companies should be “collapsed” (e.g., treated as a single entity for purposes of calculating antidumping duty rates) require a substantial amount of detailed information and analysis, which often require follow-up questions and analysis. Accordingly, Commerce will not conduct collapsing analyses at the respondent selection phase of this review and will not collapse companies at the respondent selection phase unless there has been a determination to collapse certain companies in a previous segment of this AD proceeding (e.g., investigation, administrative review, new shipper review, or changed circumstances review). For any company subject to this review, if Commerce determined, or continued to treat, that company as collapsed with others, Commerce will assume that such companies continue to operate in the same manner and will collapse them for respondent selection purposes. Otherwise, Commerce will not collapse companies for purposes of respondent selection. Parties are requested to (a) identify which companies subject to review previously were collapsed, and (b) provide a citation to the proceeding in which they were collapsed. Further, if companies are requested to complete the Quantity and Value (Q&V) Questionnaire for purposes of respondent selection, in general, each company must report volume and value data separately for itself. Parties should not include data for any other party, even if they believe they should be treated as a single entity with that other party. If a company was collapsed with another company or companies in the most recently completed segment of this proceeding where Commerce considered collapsing that entity, complete Q&V data for that collapsed entity must be submitted.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.² Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

² See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single antidumping duty deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a separate rate application or certification, as described below. For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://enforcement.trade.gov/nme/nme-sep-rate.html on the date of publication of this Federal Register notice. In responding to the certification, please follow the “Instructions for Filing the Certification” in the Separate Rate Certification. Separate Rate Certifications are due to Commerce no later than 30 calendar days after publication of this Federal Register notice. The deadline and requirement for submitting a Certification applies equally to NME-owned firms, wholly foreign-owned firms, and foreign sellers who purchase and export subject merchandise to the United States.

Entities that currently do not have a separate rate from a completed segment of the proceeding ³ should timely file a Separate Rate Application to demonstrate eligibility for a separate rate in this proceeding. In addition, companies that received a separate rate in a completed segment of the proceeding that have subsequently made changes, including, but not limited to, changes to corporate structure, acquisitions of new companies or facilities, or changes to their official company name,⁴ should timely file a Separate Rate Application to demonstrate eligibility for a separate rate in this proceeding. The Separate Rate Application will be available on Commerce's website at https://enforcement.trade.gov/nme/nme-sep-rate.html on the date of publication of this Federal Register notice. In responding to the Separate Rate Application, refer to the instructions contained in the application. Separate Rate Applications are due to Commerce no later than 30 calendar days after publication of this Federal Register notice. The deadline and requirement for submitting a Separate Rate Application applies equally to NME-owned firms, wholly foreign-owned firms, and foreign sellers that purchase and export subject merchandise to the United States.

³ Such entities include entities that have not participated in the proceeding, entities that were preliminarily granted a separate rate in any currently incomplete segment of the proceeding (e.g., an ongoing administrative review, new shipper review, etc.) and entities that lost their separate rate in the most recently completed segment of the proceeding in which they participated.

⁴ Only changes to the official company name, rather than trade names, need to be addressed via a Separate Rate Application. Information regarding new trade names may be submitted via a Separate Rate Certification.

For exporters and producers who submit a Separate Rate Application or Certification and subsequently are selected as mandatory respondents, these exporters and producers will no longer be eligible for separate rate status unless they respond to all parts of the questionnaire as mandatory respondents.

Initiation of Reviews

In accordance with 19 CFR 351.221(c)(1)(i), we are initiating administrative reviews of the following AD and CVD orders and findings. We intend to issue the final results of these reviews not later than April 30, 2021.

| Period to be reviewed
AD Proceedings
ARGENTINA: Biodiesel, A-357-820 | 4/1/19-3/31/20
Aceitera General Deheza S.A.
Bio Nogoya S.A.
Bunge Argentina S.A.
Cámara Argentina de Biocombustibles
Cargill S.A.C.I.
COFCO Argentina S.A.
Explora
GEFCO Argentina
LDC Argentina S.A.
Molinos Agro S.A.
Noble Argentina
Oleaginosa Moreno Hermanos S.A.
Patagonia Bioenergia
Renova S.A.
T6 Industrial SA (EcoFuel)
Unitec Bio S.A.
Vicentin S.A.I.C.
Viluco S.A.
INDONESIA: Biodiesel, A-560-830 | 4/1/19-3/31/20
PT Cermerlang Energi Perkasa (CEP)
PT Ciliandra Perkasa
PT. Musim Mas, Medan
Wilmar International Ltd.
THE PEOPLE'S REPUBLIC OF CHINA: 1,1,1,2-Tetrafluoroethane (R-134a), A-570-044 | 4/1/19-3/31/20
Puremann, Inc.
THE PEOPLE'S REPUBLIC OF CHINA: Certain Activated Carbon, A-570-904 | 4/1/19-3/31/20
AM Global Shipping Lines Co., Ltd.
Apex Maritime (Tianjin) Co., Ltd.
Ardic Worldwide Logistics Ltd.
Beijing Kang Jie Kong International Cargo Agent Co Ltd
Beijing Pacific Activated Carbon Products Co., Ltd.
Bengbu Modern Environmental Co., Ltd.
Brilliant Logistics Group Inc.
Carbon Activated Tianjin Co., Ltd.
China Combi Works Oy Ltd.
China International Freight Co., Ltd.
Cohesion Freight (HK) Ltd.
Datong Juqiang Activated Carbon Co., Ltd.
Datong Municipal Yunguang
Datong Municipal Yunguang Activated Carbon Co., Ltd.
De Well Container Shipping Corp.
Derun Charcoal Carbon Co., Ltd.
Endurance Cargo Management Co., Ltd.
Envitek (China) Ltd.
Excel Shipping Co., Ltd.
Fujian Xinsen Carbon Co., Ltd.
Fuzhou Yihuan Carbon Co., Ltd.
Fuzhou Yuemengfeng Trade Co., Ltd.
Gongyi City Bei Shan Kou Water Purification Materials Factory
Guangdong Hanyan Activated Carbon Manufacturing Co., Ltd.
Guangzhou Four E'S Scientific Co., Ltd.
Hangzhou Hengxing Activated Carbon
Henan Dailygreen Trading Co., Ltd.
Honour Lane Shipping Ltd.
Ingevity Corp.
Ingevity Performance Materials
Jacobi Carbons AB/Tianjin Jacobi International Trade Co., Ltd./Jacobi Carbons Industry
(Tianjin) ⁵
Jiangsu Kejing Carbon Fiber Co., Ltd.
Jiangxi Yuanli Huaiyushan Active Carbon
Jilin Bright Future Chemicals Co.
King Freight International Corp.
M Chemical Company, Inc.
Meadwestvaco Trading (Shanghai)
Muk Chi Trade Co., Ltd.
Nanping Yuanli Active Carbon Co.
Ningxia Guanghua Cherishmet Activated Carbon Co., Ltd.
Ningxia Huahui Activated Carbon Co., Ltd.
Ningxia Mineral & Chemical Limited
Pacific Star Express (China) Company Ltd.
Panalpina World Transport (PRC) Ltd.
Pingdingshan Green Forest Activated Carbon Factory
Pingdingshan Lvlin Activated Carbon Co., Ltd.
Pudong Prime International Logistics
Safround Logistics Co.
Seatrade International Transportation
Shanghai Caleb Industrial Co. Ltd.
Shanghai Express Global International
Shanghai Line Feng Int'l Transportation
Shanghai Pudong International Transportation
Shanghai Sunson Activated Carbon
Shanghai Xinjinhu Activated Carbon
Shanxi Dapu International Trade Co., Ltd.
Shanxi DMD Corp.
Shanxi Industry Technology Trading (ITT)
Shanxi Industry Technology Trading Co., Ltd.
Shanxi Sincere Industrial Co., Ltd.
Shanxi Tianxi Purification Filter Co., Ltd.
Shenzhen Calux Purification Technology Co., Ltd.
Shijiazhuang Tangju Trading Co.
Sinoacarbon International Trading Co., Ltd.
Tancarb Activated Carbon Co., Ltd.
The Ultimate Solid Logistics Ltd.
T.H.I. Group (Shanghai) Ltd.
Tianjin Channel Filters Co., Ltd.
Tianjin Maijin Industries Co., Ltd.
Translink Shipping Inc.
Trans-Power International Logistics Co., Ltd.
Triple Eagle Container Line
U.S. United Logistics (Ningbo) Inc.
Yusen Logistics Co., Ltd.
Zhejiang Topc Chemical Industry
Zhengzhou Zhulin Activated Carbon
THE PEOPLE'S REPUBLIC OF CHINA: Certain Aluminum Foil, A-570-053 | 4/1/19-3/31/20
Alcha International Holdings Limited
Anhui Maximum Aluminium Industries Company Ltd.
Baotou Alcha Aluminum Co., Ltd.
Dingsheng Aluminum Industries (Hong Kong) Trading Co., Ltd.
Granges Aluminum (Shanghai) Co., Ltd.
Guangxi Baise Xinghe Aluminum Industry Co., Ltd.
Hangzhou DingCheng Aluminum Co., Ltd.
Hangzhou Dingsheng Import & Export Co. Ltd.
Hangzhou Dingsheng Industrial Group Co. Ltd.
Hangzhou Five Star Aluminum Co., Ltd.
Hangzhou Teemful Aluminum Co., Ltd.
Huafon Nikkei Aluminium Corporation
Hunan Suntown Marketing Limited
Jiangsu Alcha Aluminium Co., Ltd.
Jiangsu Huafeng Aluminum Industry Co., Ltd.
Jiangsu Dingsheng New Materials Joint-Stock Co., Ltd.
Jiangsu Zhongji Lamination Materials Co., Ltd.
Jiangsu Zhongji Lamination Materials Co., (HK) Ltd.
Jiangsu Zhongji Lamination Materials Stock Co., Ltd.
Jiangyin Dolphin Pack Ltd. Co.
Luoyang Longding Aluminium Industries Co., Ltd.
Shandong Yuanrui Metal Material Co., Ltd.
Shantou Wanshun Package Material Stock Co., Ltd.
SNTO International Trade Limited
Suntown Technology Group Corporation Limited
Suntown Technology Group Limited
Suzhou Manakin Aluminum Processing Technology Co., Ltd.
Walson (HK) Trading Co., Limited
Xiamen Xiashun Aluminum Foil Co. Ltd.
Yantai Donghai Aluminum Foil Co., Ltd.
Yantai Jintai International Trade Co., Ltd.
Yinbang Clad Material Co., Ltd.
Zhejiang Zhongjin Aluminum Industry Co., Ltd.
THE PEOPLE'S REPUBLIC OF CHINA: Drawn Stainless Steel Sinks, A-570-983 | 4/1/19-3/31/20
B&R Industries Limited
Feidong Import and Export Co., Ltd.
Foshan Shunde MingHao Kitchen Utensils Co., Ltd.
Foshan Zhaoshun Trade Co., Ltd.
Franke Asia Sourcing Ltd.
Grand Hill Work Company
Guangdong Dongyuan Kitchenware Industrial Co., Ltd.
Guangdong G-Top Import & Export Co., Ltd.
Guangdong New Shichu Import & Export Company Limited
Guangdong Yingao Kitchen Utensils Co., Ltd.
Hangzhou Heng's Industries Co., Ltd.
Hubei Foshan Success Imp & Exp Co. Ltd.
J&C Industries Enterprise Limited
Jiangmen Hongmao Trading Co., Ltd.
Jiangmen New Star Hi-Tech Enterprise Ltd.
Jiangmen Pioneer Import & Export Co., Ltd.
Jiangxi Zoje Kitchen & Bath Industry Co., Ltd.
KaiPing Dawn Plumbing Products, Inc.
Ningbo Afa Kitchen and Bath Co., Ltd.
Ningbo Oulin Kitchen Utensils Co., Ltd.
Primy Cooperation Limited
Shenzhen Kehuaxing Industrial Ltd.
Shunde Foodstuffs Import & Export Company Limited of Guangdong
Shunde Native Produce Import and Export Co., Ltd. of Guangdong
Xinhe Stainless Steel Products Co., Ltd.
Yuyao Afa Kitchenware Co., Ltd.
Zhongshan Newecan Enterprise Development Corporation
Zhongshan Silk Imp. & Exp. Group Co., Ltd. of Guangdong
Zhongshan Superte Kitchenware Co., Ltd.
Zhuhai Kohler Kitchen & Bathroom Products, Ltd.
THE PEOPLE'S REPUBLIC OF CHINA: Magnesium Metal, A-570-896 | 4/1/19-3/31/20
Tianjin Magnesium International Co., Ltd.
Tianjin Magnesium Metal Co., Ltd.
THE PEOPLE'S REPUBLIC OF CHINA: Stainless Steel Sheet and Strip, A-570-042 | 4/1/19-3/31/20
Ahonest Changjiang Stainless Co., Ltd.
Angang Hanyang Stainless Steel Corp. (LISCO)
Angang Guangzhou Stainless Steel Corporation (LISCO)
Anping Yuanjing Metal Products Co., Ltd.
Apex Industries Corporation
Baofeng Xianglong Stainless Steel (Baofeng Steel Group Co.)
Baojing Steel Ltd.
Baosteel Stainless Steel Co., Ltd.
Baosteel Desheng Stainless Steel Co., Ltd.
Baotou Huayong Stainless Steel Co., Ltd.
Beihai Chengde Ferronickel Stainless Steel
Beijing Dayang Metal Industry Co.
Beijing Hengsheng Tongda Stainless Steel
Beijing Jingnanfang Decoration Engineering Co., Ltd.
Benxi Iron and Steel
Chain Chon Metal (Kunshan)
Chain Chon Metal (Foshan)
Changhai Stainless Steel
Changzhou General Import and Export
Changzhou Taiye Sensing Technology Co., Ltd.
Compart Precision Co.
Dalian Yirui Import and Export Agent Co., Ltd.
Daming International Import and Export Co., Ltd.
Dongbei Special Steel Group Co., Ltd.
Double Stone Steel
Etco (China) International Trading Co., Ltd.
FHY Corporation
Foshan Foreign Economic Enterprise
Foshan Hermes Steel Co., Ltd.
Foshan Jinfeifan Stainless Steel Co.
Foshan Topson Stainless Steel Co.
Fugang Group
Fujian Fuxin Special Steel Co., Ltd.
Fujian Kaixi Stainless Steel
Fujian Wuhang STS Products Co., Ltd.
Gangzhan Steel Developing Co., Ltd.
Globe Express Services Co., Ltd.
Golden Fund International Trading Co.
Guangdong Forward Metal Supply Chain Co., Ltd.
Guangdong Guangxin Suntec Metal Holdings Co., Ltd.
Guanghan Tiancheng Stainless Steel Products Co., Ltd.
Guangxi Beihai Chengde Group
Guangxi Wuzhou Jinhai Stainless Steel Co.
Guangzhou Eversunny Trading Co., Ltd.
Haimen Senda Decoration Material Co.
Hanyang Stainless Steel Co. (LISCO)
Hebei Iron & Steel
Henan Tianhong Metal (Subsidiary of Foshan Mellow Stainless Steel Company)
Henan Xinjinhui Stainless Steel Co., Ltd. (aka Jinhui Group)
Huadi Steel Group Co., Ltd.
Ideal Products of Dongguan Ltd.
Irestal Shanghai Stainless Pipe (ISSP)
Jaway Metal Co., Ltd.
Jiangdu Ao Jian Sports Apparatus Factory
Jiangsu Daming Metal Products Co., Ltd.
Jiangsu Jihongxin Stainless Steel Co., Ltd.
Jiaxing Winner Import and Export Co., Ltd.
Jiaxing Zhongda Import and Export Co., Ltd.
Jieyang Baowei Stainless Steel Co., Ltd.
Jinyun Xinyongmao
Jiuquan Iron & Steel (JISCO)
Kuehne & Nagel, Ltd. (Ningbo)
Lianzhong Stainless Steel Corp. (LISCO)
Lu Qin (Hong Kong) Co., Ltd.
Maanshan Sungood Machinery Equipment Co., Ltd.
Minmetals Steel Co., Ltd.
Nanhi Tengshao Metal Manufacturing Co.
NB (Ningbo) Rilson Export & Import Corp.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd.
Ningbo Economic and Technological Development Zone (Beilun Xiapu)
Ningbo Hog Slat Trading Co., Ltd.
Ningbo New Hailong Import & Export Co.
Ningbo Polaris Metal Products Co.
Ningbo Portec Sealing Component
Ningbo Qiyi Precision Metals Co., Ltd.
Ningbo Seduno Import & Export Co., Ltd.
Ningbo Sunico International Ltd.
Ningbo Swoop Import & Export
Ningbo Yaoyi International Trading Co., Ltd.
Onetouch Business Service, Ltd.
Qianyuan Stainless Steel
Qingdao-Pohang Stainless Steel (QPSS)
Qingdao Rising Sun International Trading Co., Ltd.
Qingdao Sincerely Steel
Rihong Stainless Co., Ltd.
Ruitian Steel
Samsung Precision Stainless Steel (Pinghu) Co., Ltd.
Sejung Sea & Air Co., Ltd.
Shandong Huaye Stainless Steel Group Co., Ltd.
Shandong Mengyin Huarun Imp and Exp Co., Ltd.
Shandong Mingwei Stainless Steel Products Co., Ltd.
Shanghai Dongjing Import & Export Co.
Shanghai Fengye Industry Co., Ltd.
Shanghai Ganglian E-Commerce Holdings Co., Ltd.
Shanghai Krupp Stainless (SKS)
Shanghai Metal Corporation
Shanghai Tankii Alloy Material Co., Ltd.
Shanxi Taigang Stainless Steel Co., Ltd. (TISCO)
Shaoxing Andrew Metal Manufactured Co., Ltd.
Shenzhen Brilliant Sign Co., Ltd.
Shaoxing Yuzhihang Import & Export Trade Co., Ltd.
Shenzhen Wide International Trade Co., Ltd.
Sichuan Southwest Stainless Steel
Sichuan Tianhong Stainless Steel
Sino Base Metal Co., Ltd.
Suzhou Xinchen Precision Industrial Materials Co., Ltd.
Taishan Steel
Taiyuan Accu Point Technology, Co., Ltd.
Taiyuan Iron & Steel (TISCO)
Taiyuan Ridetaixing Precision Stainless Steel Incorporated Co., Ltd.
Taizhou Durable Hardware Co., Ltd.
Tiancheng Stainless Steel Products
Tianjin Fulida Supply Co., Ltd.
Tianjin Hongji Stainless Steel Products Co., Ltd.
Tianjin Jiuyu Trade Co., Ltd.
Tianjin Taigang Daming Metal Product Co., Ltd.
Tianjin Teda Ganghua Trade Co., Ltd.
Tianjin Tianchengjida Import & Export Trade Co., Ltd.
Tianjin Tianguan Yuantong Stainless Steel
TISCO Stainless Steel (HK), Ltd.
Top Honest Stainless Steel Co., Ltd.
TPCO Yuantong Stainless Steel Ware
Tsingshan Qingyuan
World Express Freight Co., Ltd.
Wuxi Baochang Metal Products Co., Ltd.
Wuxi Fangzhu Precision Materials Co.
Wuxi Grand Tang Metal Co., Ltd.
Wuxi Jinyate Steel Co., Ltd.
Wuxi Joyray International Corp.
Wuxi Shuoyang Stainless Steel Co., Ltd.
Xiamen Lizhou Hardware Spring Co., Ltd.
Xinwen Mining
Henan Xuyuan Stainless Steel Co., Ltd.
Yieh Corp., Ltd.
Yongjin Metal Technology
Yuyao Purenovo Stainless Steel Co., Ltd.
Zhangjiagang Pohang Stainless Steel Co., Ltd. (ZPSS)
Zhejiang Baohong Stainless Steel Co., Ltd.
Zhejiang Huashun Metals Co., Ltd.
Zhejiang Jaguar Import & Export Co., Ltd.
Zhejiang New Vision Import & Export
Zhejiang Yongjin Metal Technology Co., Ltd.
Zhengzhou Mingtai Industry Co., Ltd.
Zhenjiang Huaxin Import & Export
Zhenjiang Yongyin Metal Tech Co.
Zhenshi Group Eastern Special Steel Co., Ltd.
Zun Hua City Transcend Ti-Gold
CVD Proceedings
THE PEOPLE'S REPUBLIC OF CHINA: Certain Aluminum Foil, C-570-054 | 1/1/19-12/31/19
Alcha International Holdings Limited
Anhui Maximum Aluminium Industries Company Ltd.
Baotou Alcha Aluminum Co., Ltd.
Dingsheng Aluminum Industries (Hong Kong) Trading Co. Ltd.
Granges Aluminum (Shanghai) Co., Ltd.
Guangxi Baise Xinghe Aluminum Industry Co., Ltd.
Hangzhou DingCheng Aluminum Co., Ltd.
Hangzhou Dingsheng Import & Export Co. Ltd.
Hangzhou Dingsheng Industrial Group Co. Ltd.
Hangzhou Five Star Aluminum Co., Ltd.
Hangzhou Teemful Aluminum Co., Ltd.
Huafon Nikkei Aluminium Corporation
Hunan Suntown Marketing Limited
Jiangsu Alcha Aluminum Co., Ltd.
Jiangsu Dingsheng New Materials Joint-Stock Co., Ltd.
Jiangsu Huafeng Aluminum Industry Co., Ltd.
Jiangsu Zhongji Lamination Materials Co., Ltd.
Jiangsu Zhongji Lamination Materials Co., (HK) Limited
Jiangsu Zhongji Lamination Materials Stock Co., Ltd.
Jiangyin Dolphin Pack Ltd. Co.
Luoyang Longding Aluminium Industries Co., Ltd.
Shandong Yuanrui Metal Material Co., Ltd.
Shantou Wanshun Package Material Stock Co., Ltd.
SNTO International Trade Limited
Suntown Technology Group Corporation Limited
Suntown Technology Group Limited
Suzhou Manakin Aluminum Processing Technology Co., Ltd.
Walson (HK) Trading Co., Limited
Xiamen Xiashun Aluminum Foil Co., Ltd.
Yantai Donghai Aluminum Foil Co., Ltd.
Yantai Jintai International Trade Co., Ltd.
Yinbang Clad Material Co., Ltd.
Zhejiang Zhongiin Aluminum Industry Co., Ltd.
THE PEOPLE'S REPUBLIC OF CHINA: Stainless Steel Sheet and Strip, C-570-043 | 1/1/19-12/31/19
Ahonest Changjiang Stainless Co., Ltd.
Angang Hanyang Stainless Steel Corp. (LISCO)
Angang Guangzhou Stainless Steel Corporation (LISCO)
Anping Yuanjing Metal Products Co., Ltd.
Apex Industries Corporation
Baofeng Xianglong Stainless Steel (Baofeng Steel Group Co.)
Baojing Steel Ltd.
Baosteel Stainless Steel Co., Ltd.
Baosteel Desheng Stainless Steel Co., Ltd.
Baotou Huayong Stainless Steel Co., Ltd.
Beihai Chengde Ferronickel Stainless Steel
Beijing Dayang Metal Industry Co.
Beijing Hengsheng Tongda Stainless Steel
Beijing Jingnanfang Decoration Engineering Co., Ltd.
Benxi Iron and Steel
Chain Chon Metal (Kunshan)
Chain Chon Metal (Foshan)
Changhai Stainless Steel
Changzhou General Import and Export
Changzhou Taiye Sensing Technology Co., Ltd.
Compart Precision Co.
Dalian Yirui Import and Export Agent Co., Ltd.
Daming International Import and Export Co., Ltd.
Dongbei Special Steel Group Co., Ltd.
Double Stone Steel
Etco (China) International Trading Co., Ltd.
FHY Corporation
Foshan Foreign Economic Enterprise
Foshan Hermes Steel Co., Ltd.
Foshan Jinfeifan Stainless Steel Co.
Foshan Topson Stainless Steel Co.
Fugang Group
Fujian Fuxin Special Steel Co., Ltd.
Fujian Kaixi Stainless Steel
Fujian Wuhang STS Products Co., Ltd.
Gangzhan Steel Developing Co., Ltd.
Globe Express Services Co., Ltd.
Golden Fund International Trading Co.
Guangdong Forward Metal Supply Chain Co., Ltd.
Guangdong Guangxin Suntec Metal Holdings Co., Ltd.
Guanghan Tiancheng Stainless Steel Products Co., Ltd.
Guangxi Beihai Chengde Group
Guangxi Wuzhou Jinhai Stainless Steel Co.
Guangzhou Eversunny Trading Co., Ltd.
Haimen Senda Decoration Material Co.
Hanyang Stainless Steel Co. (LISCO)
Hebei Iron & Steel
Henan Tianhong Metal (Subsidiary of Foshan Mellow Stainless Steel Company)
Henan Xinjinhui Stainless Steel Co., Ltd. (aka Jinhui Group)
Huadi Steel Group Co., Ltd.
Ideal Products of Dongguan Ltd.
Irestal Shanghai Stainless Pipe (ISSP)
Jaway Metal Co., Ltd.
Jiangdu Ao Jian Sports Apparatus Factory
Jiangsu Daming Metal Products Co., Ltd.
Jiangsu Jihongxin Stainless Steel Co., Ltd.
Jiaxing Winner Import and Export Co., Ltd.
Jiaxing Zhongda Import and Export Co., Ltd.
Jieyang Baowei Stainless Steel Co., Ltd.
Jinyun Xinyongmao
Jiuquan Iron & Steel (JISCO)
Kuehne & Nagel, Ltd. (Ningbo)
Lianzhong Stainless Steel Corp. (LISCO)
Lu Qin (Hong Kong) Co., Ltd.
Maanshan Sungood Machinery Equipment Co., Ltd.
Minmetals Steel Co., Ltd.
Nanhi Tengshao Metal Manufacturing Co.
NB (Ningbo) Rilson Export & Import Corp.
Ningbo Baoxin Stainless Steel Co., Ltd.
Ningbo Bestco Import & Export Co., Ltd.
Ningbo Bingcheng Import & Export Co., Ltd.
Ningbo Chinaworld Grand Import & Export Co., Ltd.
Ningbo Dawon Resources Co., Ltd.
Ningbo Economic and Technological Development Zone (Beilun Xiapu)
Ningbo Hog Slat Trading Co., Ltd.
Ningbo New Hailong Import & Export Co.
Ningbo Polaris Metal Products Co.
Ningbo Portec Sealing Component
Ningbo Qiyi Precision Metals Co., Ltd.
Ningbo Seduno Import & Export Co., Ltd.
Ningbo Sunico International Ltd.
Ningbo Swoop Import & Export
Ningbo Yaoyi International Trading Co., Ltd.
Onetouch Business Service, Ltd.
Qianyuan Stainless Steel
Qingdao-Pohang Stainless Steel (QPSS)
Qingdao Rising Sun International Trading Co., Ltd.
Qingdao Sincerely Steel
Rihong Stainless Co., Ltd.
Ruitian Steel
Samsung Precision Stainless Steel (Pinghu) Co., Ltd.
Sejung Sea & Air Co., Ltd.
Shandong Huaye Stainless Steel Group Co., Ltd.
Shandong Mengyin Huarun Imp and Exp Co., Ltd.
Shandong Mingwei Stainless Steel Products Co., Ltd.
Shanghai Dongjing Import & Export Co.
Shanghai Fengye Industry Co., Ltd.
Shanghai Ganglian E-Commerce Holdings Co., Ltd.
Shanghai Krupp Stainless (SKS)
Shanghai Metal Corporation
Shanghai Tankii Alloy Material Co., Ltd.
Shanxi Taigang Stainless Steel Co., Ltd. (TISCO)
Shaoxing Andrew Metal Manufactured Co., Ltd.
Shenzhen Brilliant Sign Co., Ltd.
Shaoxing Yuzhihang Import & Export Trade Co., Ltd.
Shenzhen Wide International Trade Co., Ltd.
Sichuan Southwest Stainless Steel
Sichuan Tianhong Stainless Steel
Sino Base Metal Co., Ltd.
Suzhou Xinchen Precision Industrial Materials Co., Ltd.
Taishan Steel
Taiyuan Accu Point Technology, Co., Ltd.
Taiyuan Iron & Steel (TISCO)
Taiyuan Ridetaixing Precision Stainless Steel Incorporated Co., Ltd.
Taizhou Durable Hardware Co., Ltd.
Tiancheng Stainless Steel Products
Tianjin Fulida Supply Co., Ltd.
Tianjin Hongji Stainless Steel Products Co., Ltd.
Tianjin Jiuyu Trade Co., Ltd.
Tianjin Taigang Daming Metal Product Co., Ltd.
Tianjin Teda Ganghua Trade Co., Ltd.
Tianjin Tianchengjida Import & Export Trade Co., Ltd.
Tianjin Tianguan Yuantong Stainless Steel
TISCO Stainless Steel (HK), Ltd.
Top Honest Stainless Steel Co., Ltd.
TPCO Yuantong Stainless Steel Ware
Tsingshan Qingyuan
World Express Freight Co., Ltd.
Wuxi Baochang Metal Products Co., Ltd.
Wuxi Fangzhu Precision Materials Co.
Wuxi Grand Tang Metal Co., Ltd.
Wuxi Jinyate Steel Co., Ltd.
Wuxi Joyray International Corp.
Wuxi Shuoyang Stainless Steel Co., Ltd.
Xiamen Lizhou Hardware Spring Co., Ltd.
Xinwen Mining
Henan Xuyuan Stainless Steel Co., Ltd.
Yieh Corp., Ltd.
Yongjin Metal Technology
Yuyao Purenovo Stainless Steel Co., Ltd.
Zhangjiagang Pohang Stainless Steel Co., Ltd. (ZPSS)
Zhejiang Baohong Stainless Steel Co., Ltd.
Zhejiang Huashun Metals Co., Ltd.
Zhejiang Jaguar Import & Export Co., Ltd.
Zhejiang New Vision Import & Export
Zhejiang Yongjin Metal Technology Co., Ltd.
Zhengzhou Mingtai Industry Co., Ltd.
Zhenjiang Huaxin Import & Export
Zhenjiang Yongyin Metal Tech Co.
Zhenshi Group Eastern Special Steel Co., Ltd.
Zun Hua City Transcend Ti-Gold

⁵ In past reviews, Commerce has treated these companies as a single entity. See, e.g., Certain Activated Carbon From the People's Republic of China: Final Results of Antidumping Duty Administrative Review; 2017-2018. We also received a review request for Jacobi Carbons, Inc., however, Jacobi Carbons, Inc. is a U.S. affiliate of Jacobi Carbons AB.

Suspension Agreements

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether AD duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁶ available at https://enforcement.trade.gov/frn/2013/1304frn/2013-08227.txt, prior to submitting factual information in this segment. Note that Commerce has temporarily modified certain of its requirements for serving documents containing business proprietary information, until July 17, 2020, unless extended.⁷

⁶ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁷ See Temporary Rule Modifying AD/CVD Service Requirements Due to COVID-19, 85 FR 29615 (May 18, 2020).

Any party submitting factual information in an AD or CVD proceeding must certify to the accuracy and completeness of that information using the formats provided at the end of the Final Rule.⁸ Commerce intends to reject factual submissions in any proceeding segments if the submitting party does not comply with applicable certification requirements.

⁸ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.⁹ In general, an extension request will be considered untimely if it is filed after the time limit established under Part 351 expires. For submissions which are due from multiple parties simultaneously, an extension request will be considered untimely if it is filed after 10:00 a.m. on the due date. Examples include, but are not limited to: (1) Case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, stand-alone submission, and clarifies the circumstances under which Commerce will grant untimely-filed requests for the extension of time limits. Please review the Final Rule, available at https://www.gpo.gov/fdsys/pkg/FR-2013-09-20/html/2013-22853.htm, prior to submitting factual information in these segments.

⁹ See 19 CFR 351.302.

These initiations and this notice are in accordance with section 751(a) of the Act (19 U.S.C. 1675(a)) and 19 CFR 351.221(c)(1)(i).

Dated: May 29, 2020.
James Maeder,
Deputy Assistant Secretary for Antidumping and Countervailing Duty Operations.

[FR Doc. 2020-12260 Filed 6-5-20; 8:45 am]

BILLING CODE 3510-DS-P